DEPARTMENT OF COMMERCE

National Oceanic and Atmospheric Administration

[I.D. 030107G]

Fisheries in the Western Pacific; Western Pacific Pelagic Fisheries; American Samoa Longline Limited Entry Program

AGENCY: National Marine Fisheries Service (NMFS), National Oceanic and Atmospheric Administration (NOAA), Commerce.

ACTION: Notice; availability of permit upgrades.

SUMMARY: NMFS is soliciting applications for American Samoa longline limited entry permit upgrades. Fourteen (14) permit upgrades will be available in 2007 for Class A vessel permit holders to upgrade to larger vessel size classes (B-1, C-1, or D-1) in the American Samoa pelagic longline fishery. The permit upgrades are available only to Class A permit holders who participated in the fishery before March 22, 2002, and the highest priority for receiving a permit upgrade will be given to the person with the earliest date of documented participation.

DATES: Completed permit upgrade applications must be received by NMFS by May 8, 2007.

ADDRESSES: Applicants should send completed applications to NMFS Pacific Islands Region (PIR), ATTN: ASLE Permit Upgrade, 1601 Kapiolani Blvd., Suite 1110, Honolulu, HI 96814-4700.

Application forms may be obtained from NMFS PIR, ATTN: ASLE Permit Upgrade, 1601 Kapiolani Blvd., Suite 1110, Honolulu, HI 96814-4700, or from the NMFS PIR Web site: http://www.fpir.noaa.gov.

FOR FURTHER INFORMATION CONTACT: Walter Ikehara, NMFS PIR (808)944-2275.

SUPPLEMENTARY INFORMATION: On May 25, 2005, NMFS published a final rule (70 FR 29646) that established a limited entry program for the pelagic longline fishery based in American Samoa, under Amendment 11 to the Fishery Management Plan for Pelagic Fisheries in the Western Pacific Region. American Samoa longline limited entry permits were established for four vessel size classes, based on length:

• Class A: less than or equal to 40 ft (12.2 m),

• Class B and B-1: over 40 ft (12.2 m) to 50 ft (15.2 m) inclusive,

• Class C and C-1: over 50 ft (15.2 m) to 70 ft (21.3 m) inclusive, and

• Class D and D-1: over 70 ft (21.3 m).

A total of 60 initial American Samoa longline limited entry permits were issued, 22 in Class A, five in Class B, 12 in Class C, and 21 in Class D. These numbers are the vessel size class limits on the number of allowed American Samoa longline limited entry permits, as defined by the regulations setting the maximum limit on permits under the limited entry program.

The limited entry program allows for a total of 26 permit upgrades to be made available for the exclusive use of permit holders in Class A, distributed over a four-year period following the issuance of initial limited entry permits. In 2006, eight permit upgrades were available (four in Class B-1, two in Class C-1, and two in Class D-1), but only one Class B-1 upgrade and one Class D-1 upgrade were issued, leaving six unissued. In 2007, 14 permit upgrades will be available (four new and three unissued in Class B-1, two new and two unissued in Class C-1, and two new and one unissued in Class D-1). The Regional Administrator may initially issue Class B-1, C-1 and D-1 permit upgrades only to persons who hold a Class A permit and who participated in the American Samoa pelagic longline fishery before March 22, 2002. The highest priority will be given to those with the earliest date of documented participation. Those receiving upgraded permits must surrender their Class A permits and the surrendered permits are deducted from the allowed Class A permit total.

This notice announces the availability of permit upgrades and solicits applications for the upgrades. Complete applications must include the completed and signed application form (available from NMFS), legible copies of documents supporting historical participation in the American Samoa pelagic longline fishery, and payment for the non-refundable application processing fee. Documents supporting fishery participation should show that fishing was conducted using longline gear. Properly completed applications must be received by NMFS (see ADDRESSES) by May 8, 2007 to be considered for eligibility for the 2007 permit upgrades.

Authoritative additional information on the American Samoa longline limited entry program may be found at 50 CFR part 665.

Authority: 16 U.S.C. 1801 et seq.

Dated: March 5, 2007.
James P. Burgess,
Acting Director Office of Sustainable Fisheries, National Marine Fisheries Service.

[FR Doc. E7-4258 Filed 3-8-07; 8:45 am]

BILLING CODE 3510-22-S